DEPARTMENT OF STATE

22 CFR Parts 22 and 51

[Public Notice: 6066]

RIN 1400-AC22

Card Format Passport; Changes to Passport Fee Schedule; Correction

AGENCY: Department of State.

ACTION: Final rule; correction.

SUMMARY: This document contains a correction to the Card Format Passport; Changes to Fee Schedule published in the Federal Register on December 31, 2007 (72 FR 74169).

DATES: Effective on February 1, 2008

FOR FURTHER INFORMATION CONTACT: Consuelo Pachon, Office of Legal Affairs and Law Enforcement Liaison, Bureau of Consular Affairs, 2100 Pennsylvania Avenue, NW., Suite 3000, Washington, DC, telephone number 202-663-2431.

Correction

The final rule published on December 31, 2007 (72 FR 74169) is corrected as follows:

1. In the SUPPLEMENTARY INFORMATION section, on page 74170, in the first column, the table is corrected by:

a. Removing the phrase “(first time applicants only)” after the phrase “Passport Card Execution Fee;” under paragraph (9)(c).

b. Removing the words “First Time” in the line reading “Total First Time Child” under paragraph (9)(c).

c. Removing the line “Total renewal child” in the first column and “$10.” in the second column under paragraph (9)(c).

2. On page 74173, amendment number 2 and the corresponding text are corrected in its entirety, to read as follows:

“2. In § 22.1, the table is amended by removing the text at Item nos. 9 through 10, and by adding new entries for Items 9 and 10 in their place, to read as follows:

§ 22.1 Schedule of fees.

* * * * *

Schedule of Fees for Consular Services
Item No. | Fee
Passport and Citizenship Services
9. Passport Card Services:
(a) Application fee for applicants age 16 or over [Adult Passport Card] | $20
(b) Application fee for applicants under age 16 [Minor Passport Card] | 10
(c) Execution fee [Passport Card Execution] | 25
10. [Reserved]

* * * * *

Dated: January 17, 2008.
Maura Harty,
Assistant Secretary, Bureau of Consular Affairs, Department of State.

[FR Doc. E8-1104 Filed 1-22-08; 8:45 am]

BILLING CODE 4710-06-P